DEPARTMENT OF STATE

[Delegation of Authority 286]

Delegation by the Secretary of State to the Under Secretary for Political Affairs of Authority To Determine Exemptions From Port-of-Entry (NSEERS) Special Registration, Fingerprinting, and Photographing Requirements (General)

By virtue of the authority vested in me as Secretary of State by the laws of the United States, including the authority of section 1 of the State Department Basic Authorities Act of 1956, as amended (22 U.S.C. 2651a), I hereby delegate to the Under Secretary for Political Affairs the authority vested in the Secretary of State by 8 CFR 264, 1(f) to: (1) Determine that special registration, fingerprinting, and photographing requirements shall not apply to an individual nonimmigrant alien upon arrival in the United States; and (2) determine, jointly with the Secretary of the Department of Homeland Security, that special registration, fingerprinting. and photographing requirements shall not apply to classes of nonimmigrant aliens upon arrival in the United States.

Any authorities covered by this delegation may also be exercised by the Secretary of State or the Deputy Secretary of State.

Any act, executive order, regulation, or procedure subject to or affected by this delegation shall be deemed to be such act, executive order, regulation, or procedure as amended from time to time.

The Under Secretary for Political Affairs may not redelegate the authorities delegated by this delegation of authority.

This delegation of authority supplements Delegation of Authority No. 253 and shall be published in the Federal Register.

Dated: September 28, 2005.
Condoleezza Rice,
Secretary of State, Department of State.

[FR Doc. E5-8117 Filed 12-29-05; 8:45 am]

BILLING CODE 4710-10-P